DEPARTMENT OF THE INTERIOR

Bureau of Land Management

[LLORP00000.L10200000.DF0000.15XL1109AF. HAG 15-0231]

Notice of Public Meetings for the John Day-Snake and Southeast Oregon Resource Advisory Councils

AGENCY: Bureau of Land Management, Interior.

ACTION: Notice of public meetings.

SUMMARY: In accordance with the Federal Land Policy and Management Act and the Federal Advisory Committee Act of 1972, and the U.S. Department of the Interior, Bureau of Land Management (BLM), the John Day- Snake and Southeast Oregon Resource Advisory Councils (RAC) will meet as indicated below:

DATES: The John Day-Snake and Southeast Oregon RACs will hold a joint workshop Monday, October 26, 2015, at the Prineville District Bureau of Land Management office, 3050 NE. 3rd Street, Prineville, Oregon, followed by separate business meetings Tuesday, October 27, 2015. The Monday, Oct. 26, meeting will run from 12:00 p.m. to 5:00 p.m. The two RACs will meet separately Tuesday, October 26, from 8 a.m. to 1 p.m., with the John Day-Snake RAC meeting at the Prineville District Bureau of Land Management office, and the Southeast Oregon RAC meeting at the Ochoco National Forest Office, 3160 NE. 3rd Street, Prineville, Oregon. A public comment period will be offered during both business meetings.

FOR FURTHER INFORMATION CONTACT: Lisa Clark, Public Affairs Specialist, BLM Prineville District Office, 3050 NE. 3rd Street, Prineville, Oregon 97754, phone (541) 416-6864, or email lmclark@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The John Day-Snake and Southeast Oregon RACs consist of 15 members each, chartered and appointed by the Secretary of the Interior. Their diverse perspectives are represented in commodity, conservation, and general interests. They provide advice to BLM and Forest Service resource managers regarding management plans and proposed resource actions on public land in central and eastern Oregon.

Agenda items for the October 26 joint meeting include learning sessions on the 2015 fire season, Wild Horse and Burro management, a Greater Sage-grouse update, a discussion on RACs role in land designations, and community engagement. The John Day-Snake RAC will continue Oct. 27 with an update on the Lower Deschutes River, Hells Canyon and Snake River fee proposals, committee and member updates, an Oregon proposal for Wild Horse and Burro and any other matters that may reasonably come before the John Day-Snake RAC. The Southeast Oregon RAC will continue Oct. 27 with RAC officer elections, an Oregon proposal for Wild Horse and Burro, committee and member updates and any other matters that may reasonably come before the Southeast Oregon RAC. All meetings are open to the public. Information to be distributed to the John Day-Snake or Southeast Oregon RAC is requested prior to the start of each meeting. A public comment period will be offered on October 26, 2015, at 11:00 a.m. at both meeting locations. Unless otherwise approved by the John Day-Snake or Southeast Oregon RAC Chairs, the public comment period in each meeting will last no longer than 30 minutes. Each speaker may address the John Day-Snake or Southeast Oregon RAC for a maximum of 5 minutes. A public call-in number for both meeting locations is provided on the John Day-Snake RAC Web site at http://www.blm.gov/or/rac/jdrac.php. Meeting times and the duration scheduled for public comment periods may be extended or altered when the authorized representative considers it necessary to accommodate business and all who seek to be heard regarding matters before the John Day-Snake or Southeast Oregon RAC.

Carol Benkosky,
Prineville District Manager.

[FR Doc. 2015-24570 Filed 9-25-15; 8:45 am]

BILLING CODE 4310-33-P